DEPARTMENT OF TRANSPORTATION

Federal Aviation Administration

14 CFR Part 71

[Docket No. FAA-2010-0453; Airspace Docket No. 10-AAL-14]

RIN 2120-AA66

Proposed Revocation of Colored Federal Airway G-4; AK

AGENCY: Federal Aviation Administration (FAA), DOT.

ACTION: Notice of proposed rulemaking (NPRM); withdrawal.

SUMMARY: This action withdraws the notice of proposed rulemaking (NPRM) published in the Federal Register on June 8, 2010 (75 FR 32317). In that action, the FAA proposed to remove Federal Airway Green (G-4) in Alaska. The FAA has determined that the withdrawal is warranted since the proposed action was based on the decommissioning of the Wood River Non-directional Beacon near the town of Dillingham, Alaska, which will now remain in service.

DATES: Effective date 0901 UTC, August 9, 2010. The Director of the Federal Register approves this incorporation by reference action under 1 CFR part 51, subject to the annual revision of FAA Order 7400.9 and publication of conforming amendments.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

History

On June 8, 2010, the FAA published in the Federal Register an NPRM proposing to remove Federal Airway G-4 (75 FR 32317), Docket No. FAA-2010-0453. A review of Alaska airspace revealed that numerous aircraft depend on G-4 to support remote communities, therefore the FAA has determined to withdraw the proposed action.

List of Subjects in 14 CFR Part 71

Airspace, Incorporation by reference, Navigation (air).

The Withdrawal

Accordingly, pursuant to the authority delegated to me, the FAA withdraws the NPRM published in the Federal Register June 8, 2010, (75 FR 32317) [2010-13609].

Authority: 49 U.S.C. 106(g), 40103, 40113, 40120; E.O. 10854, 24 FR 9565, 3 CFR, 1959-1963 Comp., p. 389.

Issued in Washington, DC, July 28, 2010.
Edith V. Parish,
Manager, Airspace and Rules Group.

[FR Doc. 2010-19489 Filed 8-6-10; 8:45 am]

BILLING CODE 4910-13-P